DEPARTMENT OF AGRICULTURE

Farm Service Agency

Commodity Credit Corporation

Information Collection Request; Noninsured Crop Disaster Assistance Program and Report of Acreage

AGENCY: Farm Service Agency, Commodity Credit Corporation, USDA.

ACTION: Notice; request for comments.

SUMMARY: In accordance with the Paperwork Reduction Act of 1995, the Farm Service Agency (FSA) is requesting comments from all interested individuals and organizations on a revision of a currently approved information collection in support of the Noninsured Crop Disaster Assistance Program (NAP). The revision adds the report of acreage for NAP in the information collection request. The report of acreage is not a new requirement for NAP; it was previously covered in a separate information collection request and FSA is merging it into the NAP information collection request. The information being collected is needed from producers to determine their eligibility for NAP assistance.

DATES: We will consider comments that we receive by March 21, 2016.

ADDRESSES: We invite you to submit comments on this notice. In your comments, include date, OMB control number, volume, and page number of this issue of the Federal Register. You may submit comments by any of the following methods:

• Federal eRulemaking Portal: Go to www.regulations.gov. Follow the online instructions for submitting comments.

• Mail: Daniel McGlynn, Acting Division Director, Production, Emergencies, and Compliance Division, Farm Service Agency, USDA, Mail Stop 0517, 1400 Independence Avenue SW, Washington, DC 20250-0517.

You may also send comments to the Desk Officer for Agriculture, Office of Information and Regulatory Affairs, Office of Management and Budget, Washington, DC 20503.

FOR FURTHER INFORMATION CONTACT: Jeannette Sutphin, (202) 720-3188. Persons with disabilities or who require alternative means for communication should contact the USDA Target Center at (202) 720-2600 (voice).

SUPPLEMENTARY INFORMATION:

Description of Information Collection

Title: Noninsured Crop Disaster Assistance Program.

OMB Control Number: 0560-0175.

Type of Request: Revision.

Abstract: NAP is authorized under 7 U.S.C. 7333 and implemented under regulations in 7 CFR part 1437. NAP is administered by FSA for the Commodity Credit Corporation. The information collected allows FSA to provide assistance through NAP for losses of commercial crops or other agricultural commodities (except livestock) that are produced for food, fiber, bioenergy conversion, and for which catastrophic coverage under section 508(b), or additional NAP coverage of sections 508(c) of 508(h) of the Federal Crop Insurance Act (7 U.S.C. 1508) is not available.

NAP coverage is available for crops expressly grown for food (excluding livestock and their by-products); crops planted and grown for livestock consumption; crops grown for fiber (excluding trees grown for lumber or paper products); aquaculture species crops (including ornamental fish); floriculture; ornamental nursery; Christmas tree crops; turf grass sod; industrial crops; seed crops; and sea grass and sea oats. The information is necessary to determine whether a producer and crop or commodity meet applicable conditions for assistance and to determine compliance with existing regulations.

Eligible producers must annually:

(1) Request NAP coverage by completing an application for coverage and paying a service fee by the FSA-established application closing date;

(2) File a report of acreage, inventory, or physical location of the operation, as applicable for the covered crop or commodity; and

(3) Certify harvested production of each covered crop or commodity.

When damage occurs to a covered crop or commodity, which is eligible for NAP, producers must file a notice of loss with the local FSA administrative county office within 15 calendar days of occurrence or 15 calendar days of the date damage to the crop or commodity becomes apparent. Producers must also file an application for payment by the FSA established deadline, and complete a certification of average adjusted gross income and consent for disclosure of tax information with the local FSA county office. The NAP application is also being used to provide a timelier, more accurate, and more reliable delivery of benefits to producers. Changes implemented by the Agricultural Act of 2014 (known as the 2014 Farm Bill) have authorized the availability of additional NAP coverage levels ranging from 50 to 65 percent of production at 100 percent of the average market price (NAP buy-up coverage), and expanded NAP coverage to sweet sorghum, biomass sorghum, and industrial crops grown as feedstock for renewable biofuel, renewable electricity, and biobased products. The 2014 Farm Bill also expanded a waiver of the NAP service fee, which was previously available only to limited resource farmers to also include beginning and socially disadvantaged farmers and ranchers.

As specified in 7 CFR 1437.7, producers that elect buy-up coverage are required to pay a premium, in addition to the service fee, equal to the lesser of:

The product obtained by multiplying:

• A 5.25-percent premium fee; and

• The applicable payment limit.

The sum of the premiums for each eligible crop, with the premium for each eligible crop obtained by multiplying:

• The producer's share of the eligible crop;

• The number of acres devoted to the eligible crop;

• The approved yield;

• The coverage level elected by the producer;

• The average market price; and

• A 5.25-percent premium fee; or

• For value loss crops, the premium calculation will be based on the maximum dollar value for which coverage is sought, subject to applicable payment limitation, times the 5.25 percent premium.

Premiums will be calculated separately for each crop, type, and intended use as reported on the acreage report and as specified in the basic provisions.

Beginning farmers and ranchers, limited resource farmers and ranchers, and socially disadvantaged farmers or ranchers may request a waiver of the service fee and a 50 percent premium reduction for any buy-up coverage elected by filing a certification of their status on or before the time the application for coverage is filed using the form specified by FSA.

Annual reports of acreage that are planted and prevented from being planted must be reported, as required by the Secretary, by the designated acreage reporting date for the crop and location as established by the Secretary. As specified in 7 CFR 1437.8(d), the report of acreage planted or intended but prevented from being planted must be provided to FSA at the administrative county office for the acreage no later than the date specified by FSA for each crop and location. Reports of acreage filed beyond the date specified by FSA for the crop and location may, however, be processed and used for determining acres devoted to the eligible crop if all the provisions of 7 CFR part 718 are met. In the case of a crop-share arrangement, all producers will be bound by the acreage report filed by the landowner or operator unless the producer files a separate acreage report by the date specified by FSA for the crop and location. Reports of acreage planted or intended and prevented from being planted must include all of the following information:

(1) Number of acres of the eligible crop in the administrative county (for each planting in the event of multiple planting) in which the producer has a share;

(2) Zero acres planted when the producer's crop for which an application for coverage was filed, is not planted;

(3) The producer's share of the eligible crop at the time an application for coverage was filed;

(4) The FSA farm serial number;

(5) The identity of the crop, practices, intended uses, and for forage crops, the predominant species or type and variety of the vegetation;

(6) For crops grown on organic acreage with an average market price established specified in § 1437.12(b), the identity of the crop planted on:

(i) Acreage using conventional farming practices;

(ii) Certified organic acreage;

(iii) Transitional acreage being converted to certified organic acreage;

(iv) Buffer zone acreage;

(7) The identity of all producers sharing in the crop;

(8) The date the crop was planted or planting was completed, including the age of the perennial crops; and

(9) The acreage intended but prevented from being planted.

Additionally, 7 CFR 1437.301(c) indicates that for those eligible crops and commodities for which it is impractical, as determined by CCC, to report crop acreage including, but not limited to, ornamental nursery and aquaculture, producers must provide a report of the crop, commodity, and facility to FSA for the acreage or facility, on a form prescribed by FSA, no later than the beginning of the crop year.

The report of acreage is not a new requirement for NAP; it was previously approved by OMB under control number 0560-0004. The report of acreage was covered in that separate information collection request and FSA is merging it into the NAP information collection request. The report of acreage information collection has been approved under a separate OMB control number because the report of acreage is also used for other programs and in the past, the other programs required approval under the Paperwork Reduction Act; however, due to legislative exemptions related to the Paperwork Reduction Act for those other FSA programs, currently NAP is the only FSA program for which the report of acreage requires approval under the Paperwork Reduction Act. Therefore, FSA determined that instead of continuing 2 separate approvals, it would be better to consolidate the information collection requests into a single NAP approval. When FSA submits the information collection request to OMB, FSA will submit a consolidated request to revise the OMB approval for control number 0560-0175 and will discontinue OMB control number 0560-0004 when OMB approves the revised information collection request for control number 0560-0175.

FSA is revising the currently approved information collection because the total annual burden hours is expected to increase due to the merging the information collection request of Report of Acreage for NAP (0560-0004) with the information collection request of 0560-0175. FSA is also revising the estimates currently approved for OMB control number 0560-0175 to the numbers to reflect current respondents. The information collection request approved under OMB control number 0560-0004 will be discontinued upon the OMB approval of the revised information collection request for OMB control number 0560-0175.

The formula used to calculate the total burden hours is “the estimated average time per response (including travel time)” times “the total estimated annual response.”

Type of Respondents: Producers of commercial crops or other agricultural commodities (except livestock).

Estimated Annual Burden: Public reporting burden for this information collection is estimated to average 1.63 hours per response. The average travel time, which is included in the total annual burden, is estimated to be 1 hour per respondent.

Estimated Annual Number of Respondents: 72,294.

Estimated Annual Number of Reponses per Respondent: 8.

Estimated Total Annual Responses: 574,402.

Estimated Total Annual Burden Hours: 933,528.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Val Dolcini,
Executive Vice President, Commodity Credit Corporation, and Administrator, Farm Service Agency.

[FR Doc. 2016-00984 Filed 1-19-16; 8:45 am]

BILLING CODE 3410-05-P